Title 3—

The President

Proclamation 8304 of October 10, 2008

National School Lunch Week, 2008

By the President of the United States of America

A Proclamation

During National School Lunch Week, we underscore the importance of providing America's children with access to nutritious meals and helping them develop good eating habits through the National School Lunch Program.

The National School Lunch Program is a federally assisted meal program administered by the Department of Agriculture's Food and Nutrition Service in cooperation with State agencies. Since 1946, the National School Lunch Program has served more than 187 billion lunches to students across America. The program is designed to ensure that each day millions of children are receiving the healthy food necessary to succeed by providing access to nutritious low-cost or free meals. By serving well-balanced meals that are lower in fat and have plenty of fruits, vegetables, and whole-grain foods, this program helps children learn healthy eating habits, reduce their risk of serious health problems, and perform better in the classroom.

Throughout National School Lunch Week, we recognize the school officials and parents who encourage young people to develop good eating habits. We also thank the dedicated food service professionals who serve our children healthy foods each day at school.

In recognition of the contributions of the National School Lunch Program to the health, education, and well-being of America's children, the Congress, by joint resolution of October 9, 1962 (Public Law 87-780), as amended, has designated the week beginning on the second Sunday in October of each year as “National School Lunch Week” and has requested the President to issue a proclamation in observance of this week.

NOW, THEREFORE, I, GEORGE W. BUSH, President of the United States of America, do hereby proclaim the week of October 12 through October 18, 2008, as National School Lunch Week. I call upon all Americans to join the dedicated individuals who administer the National School Lunch Program in appropriate activities that support the health and well-being of our Nation's children.

IN WITNESS WHEREOF, I have hereunto set my hand this tenth day of October, in the year of our Lord two thousand eight, and of the Independence of the United States of America the two hundred and thirty-third.

[FR Doc. E8-24851

Filed 10-15-08; 1:15 pm]

Billing code 3195-W9-P